DEPARTMENT OF JUSTICE

Notice of Lodging Proposed Consent Decree

In accordance with Departmental Policy, 28 CFR 50.7, notice is hereby given that a proposed Consent Decree in United States v. John Thomas Byrd, Civil Action No. 4:12-cv-53-BO, was lodged with the United States District Court for the Eastern District of North Carolina, Eastern Division, on May 6, 2013.

This proposed Consent Decree concerns a complaint filed by the United States against John Thomas Byrd, pursuant to Section 301(a) of the Clean Water Act, 33 U.S.C. 1311(a), to obtain injunctive relief from and impose civil penalties against the Defendant for violating the Clean Water Act by discharging pollutants into waters of the United States. The proposed Consent Decree resolves these allegations by requiring the Defendant to restore impacted areas and to pay a civil penalty.

The Department of Justice will accept written comments relating to this proposed Consent Decree for thirty (30) days from the date of publication of this Notice. Please address comments to Martin F. McDermott, United States Department of Justice, Environment and Natural Resources Division, Environmental Defense Section, P.O. Box 7611, Washington, DC 20044 and refer to United States v. John Thomas Byrd, DJ #90-5-1-1-19320.

The proposed Consent Decree may be examined at the Clerk's Office, United States District Court for the Eastern District of North Carolina, 310 New Bern Avenue, Raleigh, NC 27601, or any other Clerk's Office in the Eastern District of North Carolina, with the exception of Elizabeth City. In addition, the proposed Consent Decree may be examined electronically at http://www.justice.gov/enrd/Consent_Decrees.html.

Cherie L. Rogers,
Assistant Section Chief, Environmental Defense Section, Environment and Natural Resources Division.

[FR Doc. 2013-12518 Filed 5-24-13; 8:45 am]

BILLING CODE 4410-CW-P